DEPARTMENT OF THE INTERIOR

Fish and Wildlife Service

Notice of Intent to Prepare a Comprehensive Conservation Plan and Environmental Assessment for Prime Hook National Wildlife Refuge

AGENCY: Fish and Wildlife Service, Department of the Interior.

ACTION: Notice of intent.

SUMMARY: The Fish and Wildlife Service (Service) is preparing a Comprehensive Conservation Plan (CCP) and Environmental Assessment (EA) document for Prime Hook National Wildlife Refuge (NWR). This notice advises the public that the Service intends to gather information necessary to prepare a CCP and an EA pursuant to the National Wildlife Refuge System Administration Act of 1966, as amended, and the National Environmental Policy Act. The public is invited to participate in the planning process. The Service is furnishing this notice in compliance with the Service's CCP policy to:

1. Advise other agencies and the public of our intentions; and

2. Obtain suggestions and information on the scope of issues to include in the environmental documents.

The Service will solicit information from the public via open houses, meetings, and written comments. Special mailings, newspaper articles, refuge Web site postings, and announcements will provide information regarding opportunities for public involvement in the planning process. The first public meetings are scheduled for the week of November 7, 2005.

DATES: Please provide written comments to the address below by December 1, 2005.

Send Comments To: Thomas Bonetti, Refuge Planner, Fish and Wildlife Service, 300 Westgate Center Drive, Hadley, Massachusetts, 01035. Additional information is available on the refuge Web site at: http://primehook.fws.gov.

FOR FURTHER INFORMATION CONTACT: Thomas Bonetti, Refuge Planner, U.S. Fish and Wildlife Service, 300 Westgate Center Drive, Hadley, Massachusetts, 01035, 413-253-8307; or e-mail northeastplanning@fws.gov.

SUPPLEMENTARY INFORMATION: In accordance with the National Wildlife Refuge System Administration Act of 1966, as amended by the National Wildlife Refuge System Improvement Act of 1997 (16 U.S.C. 668dd-668ee), the Service is to manage all lands within the National Wildlife Refuge System in accordance with an approved CCP. The plan guides management decisions and identifies refuge goals, long-range objectives, and strategies for achieving refuge purposes. The planning process will consider many elements, including wildlife and habitat management, public recreational activities such as hunting and fishing, and cultural resource protection. Public input into the planning process is essential.

The CCP will provide other agencies and the public with information regarding the future desired conditions for the refuge and how the Service will implement management strategies. The Service will prepare an EA in accordance with procedures for implementing the National Environmental Policy Act of 1969 (42 U.S.C. 4321-4370d). Concurrent with the CCP process, the Service will conduct a wilderness review and incorporate a summary of the review into the CCP, as well as include compatibility determinations for all applicable refuge uses.

In 1963, Prime Hook NWR was established under the authority of the Migratory Bird Conservation Act for use as an inviolate sanctuary, or any other management purpose, expressly for migratory birds. Many farms and residences were once present on what is now the refuge. Prime Hook NWR was established primarily to preserve coastal wetlands as wintering and breeding habitat for migratory waterfowl. It is located on the west shore of Delaware Bay, 22 miles southeast of Dover, Delaware. Refuge habitat types are varied and are currently managed to maintain a diversity of wildlife species. Prime Hook NWR consists of over 9,700 acres, of which 7,400 acres are fresh marsh, tidal marsh, and open water. Other habitats include 1,000 acres of timber and brush and 1,300 acres of grasslands and croplands. Data collection has been initiated to create computerized mapping, including vegetation, topography, habitat types and existing land uses.

Comments received will be used to help identify key issues and to develop refuge goals, habitat management and visitor services strategies. Additional opportunities for public participation will occur throughout the planning process, which is expected to be completed in 2008. The outcome of this planning process will be a CCP to guide refuge management for the next 15 years.

Dated: September 21, 2005.
Richard O. Bennett,
Acting Regional Director, Fish and Wildlife Service, Hadley, Massachusetts.

[FR Doc. 05-20682 Filed 10-14-05; 8:45 am]

BILLING CODE 4310-55-P